SECURITIES AND EXCHANGE COMMISSION

[Release No. 34-51671; File No. SR-Amex-2005-033]

Self-Regulatory Organizations; American Stock Exchange LCC; Notice of Filing of Proposed Rule Change and Amendment No. 1 Thereto To Amend Rule 918—ANTE(a)(4) Regarding Closing Rotations

Correction

In notice document E5-2380 beginning on page 25629 in the issue of Friday, May 13, 2005, make the following correction:

On page 25630, in the second column, under the heading “Paper Comments”, in the second paragraph, in the last line, “June 6, 2005” should read “June 3, 2005”.

[FR Doc. Z5-2380 Filed 5-23-05; 8:45 am]

BILLING CODE 1505-01-D

SECURITIES AND EXCHANGE COMMISSION

[Release No. 34-51664; File No. SR-Phlx-2005-24]

Self-Regulatory Organizations; Notice of Filing and Immediate Effectiveness of Proposed Rule Change by the Philadelphia Stock Exchange, Inc. Relating to Disclaimer of Warranties by SIG Indices, LLLP and by Standard and Poor's

Correction

In notice document E5-2382 beginning on page 25641 in the issue of Friday, May 13, 2005, make the following correction:

On page 25643, in the first column, in the second line from the top, “June 6, 2005” should read “June 3, 2005”.

[FR Doc. Z5-2382 Filed 5-23-05; 8:45 am]

BILLING CODE 1505-01-D

SECURITIES AND EXCHANGE COMMISSION

[Release No. 34-51665; File No. SR-NYSE-2005-23]

Self-Regulatory Organizations; New York Stock Exchange, Inc.; Notice of Filing and Immediate Effectiveness of a Proposed Rule Change To Seek Permanent Approval of the Pilot Relating to the Allocation Policy for Trading of Exchange-Traded Funds on an Unlisted Trading Privileges Basis (NYSE Rule 103B)

Correction

In notice document E5-2383 beginning on page 25637 in the issue of Friday, May 13, 2005, make the following correction:

On page 25639, in the third column, under the heading “Paper comments”, in the second paragraph, in the last line, “June 6, 2005” should read “June 3, 2005”.

[FR Doc. Z5-2383 Filed 5-23-05; 8:45 am]

BILLING CODE 1505-01-D